DEPARTMENT OF JUSTICE

Office of Justice Programs

[OJP (NIJ) Docket No. 1795]

Criminal Justice Chatbot Market Survey

AGENCY: National Institute of Justice (NIJ), Justice.

ACTION: Notice of request for information.

SUMMARY: The National Institute of Justice (NIJ) is soliciting information in an upcoming Criminal Justice Testing and Evaluation Consortium (CJTEC) report that will provide a functional overview of how criminal justice stakeholders (i.e., law enforcement, courts, and correctional agencies) can implement chatbots. This report is a follow-on to Chatbots in the Criminal Justice System; a report that provides an overview of chatbot technology and examples in the criminal justice system. This RFI is seeking information about best practices for the development and implementation of chatbots in the criminal justice system. The resulting report will educate criminal justice agencies on implementation pathways and will highlight selected chatbot developers and providers with previous experience specific to the criminal justice system or local government. The goal of the report is to be a resource for stakeholders to reference when considering their chatbot development plans.

DATES: Emailed responses must be received (and mailed responses postmarked) by 5:00 p.m. Eastern Time on April 8, 2022.

ADDRESSES: Responses to this request may be submitted electronically by email to Eric Vetter at evetter@rti.org with the subject line “Criminal Justice Chatbot Market Survey Federal Register Response.” Responses may also be sent by mail to the following address: Criminal Justice Testing and Evaluation Consortium (CJTEC), ATTN: Eric Vetter, Criminal Justice Chatbot Market Survey Federal Register Response, RTI International, P.O. Box 12194, 3040 E Cornwallis Road, Research Triangle Park, NC 27709-2194.

FOR FURTHER INFORMATION CONTACT: For more information on this market survey, please contact Meghan Camello (CJTEC) by telephone at 603-801-5127 or mcamello@rti.org. For more information on the NIJ CJTEC, visit https://nij.ojp.gov/funding/awards/2018-75-cx-k003 and view the description, or contact Steven Schuetz (NIJ) by telephone at 202-514-7663 or at steven.schuetz@usdoj.gov. Please note that these are not toll-free telephone numbers.

SUPPLEMENTARY INFORMATION:

Information sought: CJTEC is seeking information and insights into the design, development, and implementation of chatbots in the criminal justice system. Specifically, CJTEC is seeking information about successful implementation that fit one or more of these categories:

• Chatbots designed for the criminal justice community, such as law enforcement, court systems, correctional agencies, and victim service organizations.

• Chatbots designed for other industries or applications that could be applicable to the criminal justice community (i.e., municipal agency).

Usage: Information provided in response to this request may be published in a report on chatbots in the criminal justice system. This RFI is intended to solicit important general information from vendors, developers, industry observers, or the criminal justice community which may lead to later discussions to help understand best practices, case studies, product technical specifications, etc. that might be used in the report.

CJTEC is seeking a response from technology vendors, developers, IT consultancies, or the criminal justice community that includes:

1. Name and description of company/organization.

2. Case studies or user testimonials highlighting criminal justice or similar use cases, including description of product or service.

3. Contact information for a future conversation (name, role, email, phone number).

An independent response should be submitted for each product that respondents would like CJTEC to consider in their report. NIJ encourages respondents to provide information in common file formats, such as Microsoft Word, pdf, or plain text. Each response should include contact information.

Jennifer Scherer,
Acting Director and Principal Deputy Director, National Institute of Justice.

[FR Doc. 2022-03620 Filed 2-18-22; 8:45 am]

BILLING CODE 4410-18-P